LEGAL SERVICES CORPORATION

Sunshine Act Notice of Joint Meeting of the Board of Directors' Audit and Ad Hoc Committees

Time and Date: The Board of Directors' Audit Committee and Ad Hoc Committees “the Committees”) of the Legal Services Corporation (“LSC” or “Corporation”) will meet jointly on December 11, 2008 via telephone and Web conference call. The meeting will begin at 11 a.m., Eastern Time, and continue until conclusion of the Committees' agenda.

Location: 3333 K Street, NW., Washington, DC 20007, 3rd Floor Conference Center.

Status of Meeting: Open. Directors will participate by telephone and Web conference in such a manner as to enable interested members of the public to hear and identify all persons participating in the meeting. A portion of the meeting will involve the review and editing of a document utilizing Web conferencing technology. Members of the public that wish to observe the meeting may do so by joining participating staff at the location indicated above. Alternatively, members of the public may listen to the meeting by telephone and if desired may observe the review and modification of the document under consideration by connecting to the meeting through the Internet. Please note that access to the Web conferencing segment will be limited and on a first come, first connected basis. No such limitations apply to telephonic access to the audio portion of the meeting. Telephone and Web conferencing connection instructions follow.

Telephone Access Instructions: It is necessary for all participants to connect to the meeting by telephone in order to hear the audio portion of the meeting.

1. Toll-free Number: 1-866-469-3239.

2. Meeting Number/Access Code: 487757980.

3. Password: A password is not required.

To enhance the quality of your listening experience as well as that of others and to eliminate background noises that interfere with the audio recording of the proceeding, please refrain from using speakerphones and mute your telephone during the meeting. If you would like to speak during the public comment period, please release the mute button on your telephone at that time.

Web Conference Access Instructions: 1. Please click the following Web link or type or copy and paste the address into your web browser to join the conference: http://lsc.webexone.com/r.asp?a=4&id=95205&eaddr=1473.

2. The link should take you to a page on WebEx, the conference Web site that reflects the conference information. Click the “Join” button located on the page.

3. The next screen will require you to provide the following information:

a. Display Name—Insert your first and last name;

b. E-mail Address—Insert your e-mail address; and

c. Password—A password is not required.

After providing the required information, click the “Join” button located on the page.

4. If you have not participated in a WebEx conference previously, you will be prompted to install the “WebEx Client” add-on. Follow the instructions on the screen and the additional prompts. Installation should take approximately 1 minute.

5. You will now enter the on-screen portion of the conference.

6. During the log-on process you will be prompted to join the meeting by telephone. Please do so to hear the audio portion of the meeting.

The document that will be considered by the Committees, the proposed LSC Risk Management Plan, will be available on the Corporation's Web site by 9 a.m., Eastern Time, on Monday, December 10, 2008 at http://www.lsc.gov/lscgov4/RiskManagementPlan.pdf, or can be obtained by facsimile by calling 1-866-394-3642.

Matters To Be Considered: 1. Approval of the agenda.

2. Consider and act on a recommendation to make to the Board regarding adoption of a risk management program (RMP) for the Corporation.

3. Public comment.

4. Consider and act on other business.

Contact Person for Information: Patricia Batie, Manager of Board Operations, at (202) 295-1500.

Special Needs: Upon request, meeting notices will be made available in alternate formats to accommodate visual and hearing impairments. Individuals who have a disability and need an accommodation to attend the meeting may notify Patricia Batie at (202) 295-1500.

Dated: December 4, 2008.
Helaine M. Barnett,
President.

[FR Doc. E8-29130 Filed 12-4-08; 4:15 pm]

BILLING CODE 7050-01-P